DEPARTMENT OF JUSTICE

Antitrust Division

Notice Pursuant to the National Cooperative Research and Production Act of 1993—the National Center for Manufacturing Sciences, Inc.

Notice is hereby given that, on April 16, 2003, pursuant to section 6(a) of the National Cooperative Research and Production Act of 1993, 15 U.S.C. 4301 et seq. (“the Act”), The National Center for Manufacturing Sciences, Inc. (“NCMS”) has filed written notifications simultaneously with the Attorney General and the Federal Trade Commission disclosing changes in its membership status. The notifications were filed for the purpose of extending the Act's provisions limiting the recovery of antitrust plaintiffs to actual damages under specified circumstances. Specifically, The Boeing Company, St. Louis, MO; Endicott Interconnect Technologies, Inc., Endicott, NY; Four Rivers Associates, LLC, Mequon, WI; and General Electric Co., Cincinnati, OH have been added as parties to this venture. Also, CoCreate Software, Inc., Ft. Collins, CO; Concurrent Technologies Corporation, Johnstown, PA; Defense Modeling & Simulation, Alexandria, VA; Ferro Corporation, Washington, PA; Johnson Controls, Plymouth, MI; Kestrel Aircraft Company, Norman, OK; Laser Fare, Narragansett, RI; Masco Machine, Inc., Cleveland, OH; Perceptron, Plymouth, MI; Precision Optical Manufacturing, Auburn Hills, MI; Sandia National Laboratory, Albuquerque, NM; SeeBeyond Technology Corporation, Monrovia, CA; Star Cutter Company, Farmington, MI; Sulzer Metco (US) Inc., Lawrence, MI; WebEx Inc., San Jose, CA; and West Virginia University, Morgantown, WV have been dropped as parties to this venture.

No other changes have been made in either the membership or planned activity of the group research project. Membership in this group research project remains open, and The National Center for Manufacturing Sciences, Inc. intends to file additional written notification disclosing all changes in membership.

On February 20, 1987, The National Center for Manufacturing Sciences, Inc. filed its original notification pursuant to section 6(a) of the Act. The Department of Justice published a notice in the Federal Register pursuant to section 6(b) of the Act on March 17, 1987 (52 FR 8375).

The last notification was filed with the Department on November 27, 2002. A notice was published in the Federal Register pursuant to section 6(b) of the Act on December 27, 2002 (67 FR 79150).

Constance K. Robinson,
Director of Operations, Antitrust Division.

[FR Doc. 03-11955 Filed 5-13-03; 8:45 am]

BILLING CODE 4410-11-M